OFFICE OF MANAGEMENT AND BUDGET

Amending Federal Financial Assistance-Related Forms to Include Universal Identifier

AGENCY: Office of Federal Financial Management and Office of Information and Regulatory Affairs, Office of Management and Budget.

ACTION: Notice; request for comments.

SUMMARY: The Office of Management and Budget (OMB) proposes to authorize each Federal agency that receives applications for Federal financial assistance to add a field for the applicant's Dun and Bradstreet Data Universal Numbering System (DUNS) number to application forms previously approved by OMB. This proposed update would broaden the directive's effect to all forms of Federal financial assistance covered by the Federal Funding Accountability and Transparency Act (the “Act”) including grants, subgrants, loans, awards, cooperative agreements, and other forms of financial assistance.

DATES: Comments are due by September 4, 2007.

ADDRESSES: Comments should be addressed to Marguerite Pridgen, Office of Federal Financial Management, Office of Management and Budget, 725 17th Street, NW., Washington, DC 20503; telephone 202-395-7844; fax 202-395-3952; e-mail mpridgen@omb.eop.gov. Due to potential delays in OMB's receipt and processing of mail sent through the U.S. Postal Service, we encourage respondents to submit comments electronically to ensure timely receipt. We cannot guarantee that comments mailed will be received before the comment closing date. Please include “Amending Forms for DUNS” in the subject line of the email message; please also include the full body of your comments in the text of the message and as an attachment. Include your name, title, organization, postal address, telephone number, and e-mail address in your message.

FOR FURTHER INFORMATION CONTACT: Marguerite Pridgen at the addresses noted above.

Authority: Sec. 2, Pub. L. 109-282, 102 Stat. 1186.

SUPPLEMENTARY INFORMATION: The Office of Management and Budget (OMB) proposes to authorize each Federal agency that receives applications for Federal financial assistance to add a field for the applicant's Dun and Bradstreet Data Universal Numbering System (DUNS) number to application forms previously approved by OMB. The intent of authorizing agencies to add the field without additional OMB approval is to enable the agencies to require applicants other than individual persons to provide DUNS numbers for all applications submitted on or after October 1, 2007. This proposal thereby would update the policy in the OMB directive issued on June 27, 2003 [68 FR 38403], “Use of a Universal Identifier by Grant Applicants.” That directive authorized agencies to add the DUNS number as a required field for applications leading to the award of two specific forms of Federal financial assistance: Grants and cooperative agreements. This proposed update would broaden the directive's effect to all forms of Federal financial assistance covered by the Federal Funding Accountability and Transparency Act (the “Act”) including grants, subgrants, loans, awards, cooperative agreements, and other forms of financial assistance. The reason for the proposed update is that the DUNS number will be used as the unique identifier for recipient entities that is required by the Federal Funding Accountability and Transparency Act of 2006 (Pub. L. 109-282). Under that Act, OMB must ensure the establishment and maintenance of a location on the World Wide Web through which the public may access and search data on agencies' awards. The unique identifier of the recipient entity is one of the data elements that the Act requires for each award. Note that the Civilian Agency Acquisition Council and the Defense Acquisition Regulations Council (Councils) are addressing the Federal Funding Accountability and Transparency Act requirements for contracts, subcontracts, purchase orders, task orders and delivery orders under separate Federal Register notices.

Danny Werfel,
Deputy Controller.

[FR Doc. E7-15044 Filed 8-1-07; 8:45 am]

BILLING CODE 3110-01-P